ENVIRONMENTAL PROTECTION AGENCY

[FRL-6600-1]

Agency Information Collection Activities: Continuing Collection; Comment Request; Hazardous Waste Specific Unit Requirements, and Special Waste Processes and Types

AGENCY: Environmental Protection Agency (EPA).

ACTION: Notice.

SUMMARY: In compliance with the Paperwork Reduction Act (44 U.S.C. 3501 et seq.), this notice announces that EPA is planning to submit the following or continuing Information Collection Request (ICR) to the Office of Management and Budget (OMB): Hazardous Waste Specific Unit Requirements, and Special Waste Processes and Types, EPA ICR Number 1572.04, OMB Control Number 2050-0050, expires June 30, 2000. Before submitting the ICR to OMB for review and approval, EPA is soliciting comments on specific aspects of the proposed information collection as described below.

DATES: Comments must be submitted on or before July 5, 2000.

ADDRESSES: Commenters must send an original and two copies of their comments referencing docket number F-2000-SUIP-FFFFF to: (1) If using regular US Postal Service mail: RCRA Docket Information Center, Office of Solid Waste (5305G), U.S. Environmental Protection Agency Headquarters (EPA, HQ), 1200 Pennsylvania Avenue, NW, Washington, DC 20460-0002, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-2000-SUIP-FFFFF and must be submitted as an ASCII file avoiding the use of special characters and any form of encryption.

Commenters should not submit electronically any confidential business information (CBI). An original and two copies of CBI must be submitted under separate cover to: RCRA CBI Document Control Officer, Office of Solid Waste (5305W), U.S. EPA, 1200 Pennsylvania Avenue, NW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling 703-603-9230. The public may copy a maximum of 100 pages from any regulatory docket at no charge. Additional copies cost $0.15/page. The index and some supporting materials are available electronically. See the “Supplementary Information” section for information on accessing them.

The ICR is available on the Internet at <http://www.epa.gov/epaoswer/hazwaste/tsds/specific/index.htm>.

The official record for this action will be kept in paper form. Accordingly, EPA will transfer all comments received electronically into paper form and place them in the official record, which will also include all comments submitted directly in writing. EPA responses to comments, whether the comments are written or electronic, will be in a notice in the Federal Register. EPA will not immediately reply to commenters electronically other than to seek clarification of electronic comments that may be garbled in transmission or during conversion to paper form, as discussed above.

FOR FURTHER INFORMATION CONTACT: For general information, contact the RCRA Hotline at 800 424-9346 or TDD 800 553-7672 (hearing impaired). In the Washington, DC, metropolitan area, call 703 412-9810 or TDD 703 412-3323. For more detailed information on specific aspects of this rulemaking, contact David Eberly, Office of Solid Waste (5303W), U.S. Environmental Protection Agency, 1200 Pennsylvania Avenue, NW, Washington, DC 20460-0002, by phone at 703-308-8645, or by e-mail at eberly.david@epa.gov.

SUPPLEMENTARY INFORMATION:

Affected entities: Entities potentially affected by this action are owners and operators of hazardous waste treatment, storage, and disposal facilities.

Title: Hazardous Waste Specific Unit Requirements, and Special Waste Processes and Types, EPA ICR Number 1572.04, OMB Control Number 2050-0050, expiration date June 30, 2000.

Abstract: Section 3004 of the Resource Conservation and Recovery Act (RCRA) of 1976, as amended, requires that the U.S. Environmental Protection Agency develop standards for hazardous waste treatment, storage, and disposal facilities (TSDFs), as may be necessary, to protect human health and the environment. Section 3004, Subsections (1), (3), (4), (5), and (6) specify that these standards include, but not be limited to, the following requirements:

(1) Maintaining records of all hazardous wastes identified or listed under this title which are treated, stored, or disposed of, *** and the manner in which such wastes were treated, stored, or disposed of;

(3) Treatment, storage, or disposal of all such waste received by the unit pursuant to such operating methods, techniques, and practices as may be satisfactory to the Administrator;

(4) The location, design, and construction of such hazardous waste treatment, disposal, or storage facilities;

(5) Contingency plans for effective action to minimize unanticipated damage from any treatment, storage, or disposal of any such hazardous waste; and

(6) The maintenance or operation of such facilities and requiring such additional qualifications as to ownership, continuity of operation, training for personnel, and financial responsibility as may be necessary or desirable.

All of the collection requirements covered in this ICR have been published in 40 CFR parts 261, 264 and 265, subparts J through DD, and 40 CFR part 266, subpart F. With each collection covered in this ICR, EPA is aiding the goal of complying with its statutory mandate under RCRA to develop standards for hazardous waste TSDFs, as may be necessary, to protect human health and the environment.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that the total annual respondent cost for all activities covered in this ICR is $11,934,785. This cost includes annual labor, capital, and operation and maintenance (O&M) costs to be incurred by respondents affected by the information collection requirements covered in this ICR. EPA estimates an average hourly respondent labor cost (including overhead) of $90.00 for legal staff, $69.30 for managerial staff, $54.33 for technical staff, and $24.29 for clerical staff. As shown in the table, EPA estimates that, each year, a total of 3,187 units will be subject to the information collection requirements covered in this ICR. Of these 3,187 units, 375 units are existing interim status units that will remain in the interim status universe, 100 units are interim status units that will enter the permitted universe, 2,688 units are existing permitted units, and 24 units are new permitted units. The number of respondents varies depending upon the category of each unit and the required activity.

This ICR is an exhaustive description of the total respondent burden for all activities related to specific unit requirements and special waste processes and types. From 1996 to 2000, total respondent hourly burden decreased by 42 percent and total respondent financial burden decreased by 37 percent. The burden decreased for a number of reasons. First, in revising this ICR, EPA significantly improved its estimated number of specific units in the interim status and permitted universes. In addition, labor rates were adjusted in this ICR. In the 1996 ICR, EPA had overestimated the overhead factor and thus, the labor rates of the respondents conducting the activities covered in this ICR. In addition, EPA removed all federally owned or operated units from the respondent universe. Thus, EPA's estimates of the overall total respondent burden and cost has decreased. EPA believes that the burden and cost reflects a more comprehensive and, therefore, a more accurate portrait of the existing hourly and financial burden on the regulated community.

For tank systems, the public reporting burden is estimated to average six hours per respondent per year. The record keeping burden is estimated to average 155 hours per respondent per year.

For surface impoundments, the public reporting burden is estimated to average two hours per respondent per year. The record keeping burden is estimated to average 152 hours per respondent per year.

For waste piles, there is no public reporting burden associated with the requirements covered in this ICR. The record keeping burden is estimated to average 20 hours per respondent per year.

For land treatment units, the public reporting burden is estimated to average one hour per respondent per year. The record keeping burden is estimated to average one hour per respondent per year.

For landfills, the public reporting burden is estimated to average seven hours per respondent per year. The record keeping burden is estimated to average 80 hours per respondent per year.

For incinerators, the public reporting burden is estimated to average two hours per respondent per year. The record keeping burden is estimated to average three hours per respondent per year.

For thermal treatment units, there is no public reporting or record keeping burden associated with the requirements covered in this ICR.

For chemical, physical, and biological treatment units, there is no public reporting or record keeping burden associated with the requirements covered in this ICR.

For drip pads, there is no public reporting or record keeping burden associated with the requirements covered in this ICR.

For miscellaneous units, there is no public reporting or record keeping burden associated with the requirements covered in this ICR.

For process vents, the public reporting burden is estimated to average ten hours per respondent per year. The record keeping burden is estimated to average 1,072 hours per respondent per year.

For equipment leaks, the public reporting burden is estimated to average seven hours per respondent per year. The record keeping burden is estimated to average 83 hours per respondent per year.

For containment buildings, the public reporting burden is estimated to average six hours per respondent per year. The record keeping burden is estimated to average 56 hours per respondent per year.

For specific hazardous waste recovery and recycling units, there is no public reporting burden associated with these requirements. The record keeping burden is estimated to average four hours per respondent per year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 21, 2000.
Matthew Hale,
Acting Director, Office of Solid Waste.

[FR Doc. 00-11283 Filed 5-4-00; 8:45 am]

BILLING CODE 6560-50-P